DEPARTMENT OF HEALTH AND HUMAN SERVICES

[Document Identifier: OS-0990-new]

Agency Information Collection Request: 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 30, 2021.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Survey on Menstrual Products.

Type of Collection: New Collection.

OMB No. 0990-NEW—Office of the Assistant Secretary for Health—Office on Women's Health.

Abstract: The Office on Women's Health (OWH) in the U.S. Department of Health and Human Services (HHS) is proposing a data collection activity for four months, beginning in December 2021 or January 2022. The objective of the federal data collection is to document the usage of, type, preference, cost and frequency of use for different menstrual products among women. The survey will collect information on the preferences of menstrual products among adult women (over age 18) of reproductive age in the United States. The proposed collection will include an online survey of women ages 18-50 years who still experience menstrual cycles.

The data collection efforts will provide information on access and barriers to adequate menstrual products among women of all income levels, racial, ethnic, language and cultural backgrounds in diverse geographic areas within the U.S. The proposed survey will identify preferences regarding menstrual products for women; describe their demographic and socioeconomic status, and preferences; describe their usage; identify their special needs; identify the gaps in products available to them; and identify barriers to adequate menstrual products. OWH will share information gleaned from this study with policymakers, Congress, general media and HHS program staff to inform future initiatives and policies regarding menstrual health.

Annualized Burden Hour Table
Forms (if necessary) | Respondents (if necessary) | Number of respondents | Number of responses per respondents | Average burden per response (minutes) | Total burden hours
Menstrual Products Survey | Women between the ages of 18-50 | 500 | 1 | 15 | 125
Total |  |  | 1 |  | 125

Sherrette A. Funn,
Paperwork Reduction Act Reports Clearance Officer, Office of the Secretary.

[FR Doc. 2021-14030 Filed 6-30-21; 8:45 am]

BILLING CODE 4150-33-P